DEPARTMENT OF COMMERCE

National Oceanic and Atmospheric Administration

RIN 0648-XC665

Mid-Atlantic Fishery Management Council (Council); Public Meetings

AGENCY: National Marine Fisheries Service (NMFS), National Oceanic and Atmospheric Administration (NOAA), Commerce.

ACTION: Notice of public meetings.

SUMMARY: The Council's Mackerel-Squid-Butterfish (MSB) Monitoring Committee will meet twice to develop recommendations for 2014 MSB specifications. The first meeting will be in Gloucester, MA and the second will be via webinar.

DATES: The first meeting will be May 23, 2013, starting at 10 a.m. and ending by 5 p.m. The second meeting will be May 28, 2013, starting at 1 p.m. and ending by 5 p.m.

ADDRESSES: The May 23 meeting will be at the NMFS Northeast Regional Office: 55 Great Republic Drive, Gloucester, MA 01930; telephone: (978) 281-9300. The May 28 meeting will be via webinar—access information will be posted to the Council's Web site: http://www.mafmc.org/. The public may also participate in the May 28 meeting in person at the Council Address listed below if desired (please contact the Council ahead of time).

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Council's Mackerel-Squid-Butterfish (MSB) Monitoring Committee will meet twice to develop recommendations for 2014 MSB specifications. The first meeting will be in Gloucester, MA and the second will be via webinar. The May 23 Gloucester meeting will focus on developing options for River Herring and Shad Catch Caps for implementation in 2014 per Amendment 14 to the Atlantic Mackerel, Squid, and Butterfish Fishery Management Plan. Implementation of Amendment 14 is expected by January 1, 2014. This first meeting will be held jointly with the New England Fishery Management Council's (NEFMC) Atlantic Herring Plan Development Team. The NEFMC is considering River Herring and/or Shad catch caps for the Atlantic Herring fishery so a joint meeting has been arranged. The May 28 webinar meeting will address any outstanding River Herring and Shad Cap issues as well as other MSB management measures for 2014. If you would like assistance with the webinar connection, please contact M. Jan Saunders at the Mid-Atlantic Council Office, (302) 526-5251, at least 5 days prior to the meeting date.

Special Accommodations

The meeting is physically accessible to people with disabilities. Requests for sign language interpretation or other auxiliary aids should be directed to M. Jan Saunders at the Mid-Atlantic Council Office, (302) 526-5251, at least 5 days prior to the meeting date.

Dated: May 6, 2013.
Tracey L. Thompson,
Acting Deputy Director, Office of Sustainable Fisheries, National Marine Fisheries Service.

[FR Doc. 2013-11040 Filed 5-8-13; 8:45 am]

BILLING CODE 3510-22-P